DEPARTMENT OF COMMERCE

International Trade Administration

[A-201-847]

Heavy Walled Rectangular Welded Carbon Steel Pipes and Tubes From Mexico: Amended Final Results of Antidumping Duty Administrative Review; 2016-2017

AGENCY: Enforcement and Compliance, International Trade Administration, Department of Commerce.

SUMMARY: The Department of Commerce (Commerce) is amending the final results of the administrative review of the antidumping duty (AD) order on heavy walled rectangular welded carbon steel pipes and tubes (HWR) from Mexico to correct a ministerial error.

DATES: Applicable July 10, 2019.

FOR FURTHER INFORMATION CONTACT: David Crespo or Jacob Garten, AD/CVD Operations, Office II, Enforcement and Compliance, International Trade Administration, U.S. Department of Commerce, 1401 Constitution Avenue NW, Washington, DC 20230; telephone: (202) 482-3693 or (202) 482-3342, respectively.

SUPPLEMENTARY INFORMATION:

Background

On May 28, 2019, Commerce issued the final results of the first administrative review of the AD order on HWR from Mexico.¹ Also on this date, Atlas Tube, a division of Zekelman Industries, and Searing Industries (collectively, the domestic producers), submitted comments alleging a ministerial error in Commerce's Final Results.²

¹ See Heavy Walled Rectangular Welded Carbon Steel Pipes and Tubes from Mexico: Final Results of Antidumping Duty Administrative Review and Final Determination of No Shipments; 2016-2017, 84 FR 24473 (May 28, 2019) (Final Results).

² See Domestic Producers' letter, “Heavy Walled Rectangular Welded Carbon Steel Pipes and Tubes from Mexico: Ministerial Error Comments,” dated May 28, 2019.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ³ With respect to final results of administrative reviews, 19 CFR 351.224(e) provides that Commerce “will analyze any comments received and, if appropriate, correct any ministerial error by amending . . . the final results of review. . . .”

³ See 19 CFR 351.224(f).

Ministerial Errors

Commerce committed an inadvertent error within the meaning of section 735(e) of the Act and 19 CFR 351.224(f) ⁴ with respect to the cash deposit rate assigned to the companies not selected for individual examination. In the Final Results, we stated our intention to base this calculation on the average of the margins calculated for Maquilacero S.A. de C.V. (Maquilacero) and Productos Laminados de Monterrey S.A. de C.V. (Prolamsa), weighted by their publicly-ranged sales quantities.⁵ However, we did not rely on Prolamsa's most recently-submitted publicly-ranged sales quantity. Accordingly, we have determined, in accordance with section 751(h) of the Act and 19 CFR 351.224(f), that an unintentional ministerial error was made in the Final Results. Pursuant to 19 CFR 351.224(e), Commerce is amending the Final Results to reflect the correction of this ministerial error. Specifically, we have now revised the calculation to include Prolamsa's correct U.S. quantity.⁶ This correction changes the cash deposit rate for the non-individually-examined companies from 5.88 percent to 6.13 percent.⁷ For a detailed discussion of this ministerial error, as well as Commerce's analysis, see Ministerial Error Memorandum.⁸

⁴ Id.

⁵ See Memorandum, “Calculation of the Cash Deposit Rate for Non-Reviewed Companies,” dated May 20, 2019 (Final Results Average Rate Memo); and Final Results, 84 FR at 24474.

⁶ See Final Results Average Rate Memo.

⁷ See Memorandum, “Amended Calculation of the Cash Deposit Rate for Non-Reviewed Companies,” dated concurrently with this notice (Amended Final Results Review-Specific Average Rate Memo).

⁸ See Memorandum, “Antidumping Duty Administrative Review of Heavy Walled Rectangular Welded Carbon Steel Pipes and Tubes from Mexico; 2016-2017: Ministerial Error Memorandum,” dated concurrently with this notice (Ministerial Error Memorandum).

Amended Final Results of the Review

We are assigning the following weighted-average dumping margins to the firms listed below for the period March 1, 2016 through August 31, 2017:

⁹ We note that Maquilacero's and Prolamsa's margins remain unchanged from the Final Results.

Exporter/producer | Weighted- average dumping margin (percent) ⁹
Maquilacero S.A. de C.V | 1.43
Productos Laminados de Monterrey S.A. de C.V | 8.09

Review-Specific Average Rate Applicable to the Following Companies: ¹⁰

¹⁰ See Amended Final Results Review-Specific Average Rate Memo. This rate is based on the rates for the respondents that were selected for individual review, excluding rates that are zero, de minimis, or based entirely on facts available. See section 735(c)(5)(A) of the Act.

Exporter/producer | Weighted- average dumping margin (percent)
Arco Metal S.A. de C.V | 6.13
Forza Steel S.A. de C.V | 6.13
Industrias Monterrey, S.A. de C.V | 6.13
Perfiles y Herrajes LM S.A. de C.V | 6.13
PYTCO S.A. de C.V | 6.13
Regiomontana de Perfiles y Tubos S.A. de C.V | 6.13
Ternium S.A. de C.V | 6.13
Tuberia Nacional S.A. de C.V | (*)
Tuberia Procarsa S.A. de C.V | 6.13
* No shipments or sales subject to this review.

Disclosure

We intend to disclose the calculation performed for these amended final results in accordance with 19 CFR 351.224(b).

Antidumping Duty Assessment

Pursuant to section 751(a)(2)(C) of the Act, and 19 CFR 351.212(b)(1), Commerce has determined, and U.S. Customs and Border Protection (CBP) shall assess, antidumping duties on all appropriate entries of subject merchandise in accordance with the amended final results of this review.

Pursuant to 19 CFR 351.212(b)(1), where Maquilacero and Prolamsa reported the entered value of their U.S. sales, we calculated importer-specific ad valorem duty assessment rates based on the ratio of the total amount of dumping calculated for the examined sales to the total entered value of the sales for which entered value was reported. Where the respondents did not report entered value, we calculated the entered value in order to calculate the assessment rate. Where either the respondent's weighted-average dumping margin is zero or de minimis within the meaning of 19 CFR 351.106(c)(1), or an importer-specific rate is zero or de minimis, we will instruct CBP to liquidate the appropriate entries without regard to antidumping duties. In addition, for entries of subject merchandise during the period of review (POR) produced by Maquilacero or Prolamsa for which the respondent did not know its merchandise was destined for the United States, we will instruct CBP to liquidate unreviewed entries at the all-others rate if there is no rate for the intermediate company or companies involved in the transaction. The all-others rate is 4.91 percent.¹¹ We will also instruct CBP to take into account the “provisional measures cap” in accordance with 19 CFR 351.212(d).

¹¹ See Heavy Walled Rectangular Welded Carbon Steel Pipes and Tubes from the Republic of Korea, Mexico, and the Republic of Turkey: Antidumping Duty Orders, 81 FR 62865, 62866 (September 13, 2016) (AD Orders). We note that the Final Results contained an incorrect all-others rate.

For the companies which were not selected for individual review, we will assign an assessment rate based on the average ¹² of the cash deposit rates calculated for Maquilacero and Prolamsa. The amended final results of this review shall be the basis for the assessment of antidumping duties on entries of merchandise covered by the amended final results of this review and for future deposits of estimated duties, where applicable.¹³

¹² This rate was calculated as discussed in footnote 10, above.

¹³ See section 751(a)(2)(C) of the Act.

We intend to issue liquidation instructions to CBP 41 days after publication of the final results of this administrative review.

Cash Deposit Requirements

The following cash deposit requirements will be effective retroactively, as appropriate, for all shipments of subject merchandise entered, or withdrawn from warehouse, for consumption on or after the May 28, 2019, the date of publication of the Final Results of this administrative review, as provided for by section 751(a)(2)(C) of the Act: (1) The cash deposit rate for each specific company listed above will be that established in the amended final results, except if the rate is less than 0.50 percent and, therefore, de minimis within the meaning of 19 CFR 351.106(c)(1), in which case the cash deposit rate will be zero; (2) for previously reviewed or investigated companies, including those for which Commerce may have determined they had no shipments during the POR, the cash deposit rate will continue to be the company-specific rate published for the most recently completed segment of this proceeding; (3) if the exporter is not a firm covered in this review or another completed segment of this proceeding, but the manufacturer is, then the cash deposit rate will be the rate established for the most recently completed segment of this proceeding for the manufacturer of the merchandise; and (4) if neither the exporter nor the manufacturer is a firm covered in this or any previously completed segment of this proceeding, then the cash deposit rate will be the all-others rate of 4.91 percent established in the less-than-fair-value investigation.¹⁴ These deposit requirements, when imposed, shall remain in effect until further notice.

¹⁴ See AD Orders.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Administrative Protective Order

This notice serves as a reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and terms of an APO is a sanctionable violation.

Notification to Interested Parties

These amended final results and notice are issued and published in accordance with sections 751(h) and 777(i) of the Act and 19 CFR 351.224(e).

Dated: July 1, 2019.
Jeffrey I. Kessler,
Assistant Secretary for Enforcement and Compliance.

[FR Doc. 2019-14688 Filed 7-9-19; 8:45 am]

BILLING CODE 3510-DS-P